DEPARTMENT OF THE INTERIOR

Bureau of Land Management

[LLNML0000 L12200000.BY0000 14XL1109AF]

Temporary Closure of Public Land to Recreational Target Shooting Near the Prehistoric Trackways National Monument in Doña Ana County, NM

AGENCY: Bureau of Land Management, Interior.

ACTION: Notice.

SUMMARY: The Bureau of Land Management (BLM) Las Cruces District Office is restricting recreational target shooting on approximately 290 acres of public land near the Prehistoric Trackways National Monument (Monument). The restriction is needed to ensure public safety near the Monument entrance which is the Permian Tracks Road in Doña Ana County, New Mexico.

ADDRESSES: Copies of this closure order and maps showing the location of the restriction are available from the BLM, Las Cruces District Office, 1800 Marquess Street, Las Cruces, NM 88005.

DATES: This restriction is effective on October 24, 2014 and shall remain in effect until a final decision is made in the Tri-County Resource Management Plan. During the temporary closure, the BLM will develop long-term resource management plans that will address public lands both inside and outside the Monument with public involvement.

FOR FURTHER INFORMATION CONTACT: David Wallace, Assistant District Manager, Multi-Resources Division, 1800 Marquess Street, Las Cruces, NM 88005; or call 575-525-4393. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The recreational target shooting restriction includes public land along the Permian Tracks Road, which is the primary entrance to the Monument. Since designation of the Monument in 2009, the area has seen a significant increase in visitation from school children and the general public for guided hikes and museum field trips that focus on the paleontological resources. Documented near-misses between Monument visitors and bullets from recreational target shooting along the Permian Tracks Road are increasing.

Most of the surrounding public land is open for dispersed recreational target shooting. The restriction will remain in effect until a final decision is issued in the TriCounty Resource Management Plan.

The restrictions applicable to the closure are as follows:

1. The public land to be closed under this notice is described as:

New Mexico Principal Meridian, New Mexico

T. 22 S., R. 1 E.,

Sec. 19, N½NE¼SE¼SE¼, N½NW¼SE¼SE¼;

Sec. 20, S½SW¼;

Sec. 29, NW¼NE¼, N½NW¼;

Sec. 30, N½NE¼.

The area described aggregates 290.00 acres.

Discharging of firearms for recreational target shooting is prohibited in this location.

2. This restriction does not affect the ability of local, State, or Federal officials in the performance of their duties in the area, including the discharge of firearms.

3. This Notice will be posted along the public roads where this restriction is in effect.

4. The following persons are exempt from this closure order:

a. Federal, State, or local law enforcement officers, while acting within the scope of their official duties.

b. Any person who is hunting in accordance with State law.

Violations of this closure are punishable by a fine not to exceed $1,000 and/or imprisonment not to exceed one year. These actions are taken to protect the public and BLM employee health and safety.

Authority: 43 CFR 8364.1.

Jesse J. Juen,
State Director.

[FR Doc. 2014-22722 Filed 9-23-14; 8:45 am]

BILLING CODE 4310-FB-P